DEPARTMENT OF HEALTH AND HUMAN SERVICES

Food and Drug Administration

[Docket No. 1997D-0530]

Food and Drug Adminstration Modernization Act of 1997: Modifications to the List of Recognized Standards, Recognition List Number: 009

AGENCY: Food and Drug Administration, HHS.

ACTION: Notice.

SUMMARY: The Food and Drug Administration (FDA) is announcing a publication containing modifications the agency is making to the list of standards FDA recognizes for use in premarket reviews (FDA Recognized Consensus Standards). This publication, entitled “Modifications of the List of Recognized Standards, Recognition List Number: 009” (Recognition List Number: 009), will assist manufacturers who elect to declare conformity with consensus standards to meet certain requirements for medical devices.

DATES: Submit written or electronic comments concerning this document at any time. See section VII of this document for the effective date of the recognition of standards announced in this document.

ADDRESSES: Submit written requests for single copies on a 3.5′′ diskette of “Modification to the List of Recognized Standards, Recognition List Number: 009” to the Division of Small Manufacturers Assistance, Center for Devices and Radiological Health (HFZ-220), Food and Drug Administration, 1350 Piccard Dr., Rockville, MD 20850. Send two self-addressed adhesive labels to assist that office in processing your requests, or fax your request to 301-443-8818. Submit written comments concerning this document or to recommend additional standards for recognition to the contact person (see FOR FURTHER INFORMATION CONTACT). Submit electronic comments by e-mail: standards@cdrh.fda.gov. This document may also be accessed on FDA's Internet site at http://www.fda.gov/cdrh/fedregin.htm l. See section VI of this document for electronic access to the searchable database for the current list of “FDA Recognized Consensus Standards,” including Recognition List Number: 009 modifications and other standards related information.

FOR FURTHER INFORMATION CONTACT: Carol L. Herman, Center for Devices and Radiological Health (CDRH) (HFZ-84), Food and Drug Administration, 2094 Gaither Rd., Rockville, MD 20850, 301-594-4766, ext.156.

I. Background

Section 204 of the Food and Drug Administration Modernization Act of 1997 (FDAMA) (Public Law 105-115) amended section 514 of the Federal Food, Drug, and Cosmetic Act (the act) (21 U.S.C. 360d). Amended section 514 allows FDA to recognize consensus standards, developed by international and national organizations, for use in satisfying portions of device premarket review submissions or other requirements.

In a notice published in the Federal Register of February 25, 1998 (63 FR 9561), FDA announced the availability of guidance entitled “Recognition and Use of Consensus Standards.” This notice described how FDA will implement its standard recognition program and provided the initial list of recognized standards.

In Federal Register notices published on October 16, 1998 (63 FR 55617), July 12, 1999 (64 FR 37546), November 15, 2000 (65 FR 69022), May 7, 2001 (66 FR 23032), January 14, 2002 (67 FR 1774), October 2, 2002 (67 FR 61893), and April 28, 2003 (68 FR 22391), FDA modified its initial list of recognized standards. These notices described the addition, withdrawal, and revision of certain standards recognized by FDA. The agency maintains “hypertext markup language (HTML)” and “portable document format (PDF)” versions of the list of “FDA Recognized Consensus Standards.” Both versions are publicly accessible at the agency's Internet site. See section VI of this document for electronic access information. Interested persons should review the supplementary information sheet for the standard to understand fully the extent to which FDA recognizes the standard.

II. Modifications to the List of Recognized Standards, Recognition List Number: 009

FDA is announcing the addition, withdrawal, correction, and revision of certain consensus standards the agency will recognize for use in satisfying premarket reviews and other requirements for devices. FDA will incorporate these modifications in the list of “FDA Recognized Consensus Standards” in the agency's searchable database. FDA will use the term “Recognition List Number: 009” to identify these current modifications.

In the following table, FDA describes modifications that involve: (1) The withdrawal of standards and their replacement by others, (2) the correction of errors made by FDA in listing previously recognized standards, and (3) the changes to the supplementary information sheets of recognized standards that describe revisions to the applicability of the standards.

In section III of this document, FDA lists modifications the agency is making that involve the initial addition of standards not previously recognized by FDA.

A. Biocompatibility

Old Item No. | Standard | Change | Replacement Item No.
36 | ASTM F1408-02e1, Standard Practice for Subcutaneous Screening Test for Implant Materials | Withdrawn and replaced with newer version. | 71
16 | ASTM F1439-02, Standard Guide for Performance of Lifetime Bioassay for the Tumorigenic Potential of Implant Materials | Withdrawn and replaced with newer version. | 72
65 | ASTM F2065-00e1, Standard Practice for Testing for Alternative Pathway Complement Activation in Serum by Solid Materials | Withdrawn and replaced with newer version. | 73
58 | USP 26-NF 21 <87>, Biological Reactivity Test, In Vitro—Direct Contact Test | Withdrawn and replaced with newer version. | 74
59 | USP 26-NF 21 <87>, Biological Reactivity Test, In Vitro—Elution Test | Withdrawn and replaced with newer version. | 75
60 | USP 26-NF 21<88>, Biological Reactivity Tests, In Vivo—Procedure—Preparation of Sample | Withdrawn and replaced with newer version. | 76
61 | USP 26-NF 21<88>, Biological Reactivity Test, In Vivo—Intracutaneous Test | Withdrawn and replaced with newer version. | 77
62 | USP 26-NF 21<88>, Biological Reactivity Tests, In Vivo—Systemic Injection Test | Withdrawn and replaced with newer version | 78

B. Dental/ENT

Old Item No. | Standard | Change | Replacement Item No.
46 | ANSI/ADA Specification No. 14:1998, Dental Base Metal Casting Alloys | Withdrawn and replaced with newer version; Contact person | 94
49 | ANSI/ADA Specification No. 17:1999, Denture Base Temporary Relining Resin | Withdrawn and replaced with newer version. | 95
53 | ANSI/ADA Specification No. 30:2002, Dental Zinc Oxide-Eugenol and Zinc Oxide Non-Eugenol Cements | Withdrawn and replaced with newer version. | 96
56 | ANSI/ADA Specification No. 57:2000, Endodontic Sealing Materials | Withdrawn and replaced with newer version. | 97
60 | ANSI/ADA Specification No. 96:2000, Dental Water-Based Cements | Withdrawn and replaced with newer version. | 98
66 | ISO 4049:2000, Dentistry—Polymer-Based Filling, Restorative and Luting Materials | Withdrawn and replaced with newer version. | 99
71 | ISO 6876:2001, Dental Root Canal Sealing Materials | Withdrawn and replaced with newer version. | 100
77 | ISO 8891:1998, Dental Casting Alloys with Noble Metal Content of At Least 25% but less than 75% | Withdrawn and replaced with newer version; Contact person | 101
79 | ISO 9693, Metal-Ceramic Dental Restorative Systems | Withdrawn and replaced with newer version; Contact person | 102

C. General Hospital/General Plastic Surgery

Old Item No. | Standard | Change | Replacement Item No.
82 | USP 26, Nonabsorbable Surgical Sutures | Withdrawn and replaced with newer version | 97
88 | USP 26 <11>, Sterile Sodium Chloride for Irrigation | Withdrawn and replaced with newer version | 98
89 | USP 26, Absorbable Surgical Sutures | Withdrawn and replaced with newer version | 99
90 | USP 26 <881>, Tensile Strength | Withdrawn and replaced with newer version | 100
91 | USP 26 <861>, Sutures—Diameter | Withdrawn and replaced with newer version | 101
92 | USP 26<871>, Sutures Needle Attachment | Withdrawn and replaced with newer version | 102
93 | USP 26, Sterile Water for Irrigation | Withdrawn and replaced with newer version | 103
94 | USP 26, Heparin Lock Flush Solution | Withdrawn and replaced with newer version | 104
95 | USP 26, Sodium Chloride Injection | Withdrawn and replaced with newer version | 105
33 | ASTM D3772-01, Standard Specification for Rubber Finger Cots | Withdrawn and replaced with newer version | 106
5 | ASTM F882-84 (2002), Standard Performance and Safety Specification for Cryosurgical Medical Instrumentation | Withdrawn and replaced with newer version | 107

D. In Vitro Diagnostic

Old Item No. | Standard | Change | Replacement Item No.
14 | NCCLS C24-A2 Statistical Quality Control for Quantitative Measurements: Principles and Definitions: Approved Guideline—Second Edition | Withdrawn and replaced with newer version | 85
17 | NCCLS C29-A2 Standardization of Sodium and Potassium Ion Selective Electrode Systems to the Flame Photometric Reference Method; Approved Standard—Second Edition | Withdrawn and replaced with newer version | 86
19 | NCCLS C31-A2 Ionized Calcium Determinations: Precollection Variables, Specimen Choice, Collection and Handling: Approved Guideline—Second Edition | Withdrawn and replaced with newer version | 87
2 | NCCLS EP09-A2 Method Comparison and Bias Estimation Using Patient Samples; Approved Guideline—Second Edition | Withdrawn and replaced with newer version | 92
66 | NCCLS EP10-A2 Preliminary Evaluation of Quantitative Clinical Laboratory Methods; Approved Guideline—Second Edition | Withdrawn and replaced with newer version | 93

E. Materials

Old Item No. | Standard | Change | Replacement Item No.
1 | ASTM F67-00, Standard Specification for Unalloyed Titanium for Surgical Implant Applications (UNS R50250, UNS R50550, UNS R50700) | Update “Process(es) Impacted” to include Design Controls. | 1
2 | ASTM F75-01, Standard Specification for Cobalt-28 Chromium-6 Molybdenum Alloy Castings and Casting Alloy for Surgical Implants (UNS R30075) | Update “Process(es) Impacted” to include Design Controls. | 2
3 | ASTM F90-01, Standard Specification for Wrought Cobalt-20 Chromium-15 Tungsten-10 Nickel Alloy for Surgical Implant Applications (UNS R30605) | Update “Process(es) Impacted” to include Design Controls. | 3
5 | ASTM F138-00, Standard Specification for Wrought 18 Chromium-14 Nickel-2.5 Molybdenum Stainless Steel Bar and Wire for Surgical Implants (UNS S31673) | Update “Process(es) Impacted” to include Design Controls. | 5
6 | ASTM F139-00, Standard Specification for Wrought 18 Chromium-14 Nickel-2.5 Molybdenum Stainless Steel Sheet and Strip for Surgical Implants (UNS S31673) | Update “Process(es) Impacted” to include Design Controls. | 6
7 | ASTM F560-98, Standard Specification for Unalloyed Tantalum for Surgical Implant Applications (UNS R05200, UNS R05400) | Update “Process(es) Impacted” to include Design Controls. | 7
9 | ASTM F563-00, Standard Specification for Wrought Cobalt-20 Nickel-20 Chromium-3.5 Molybdenum-3.5 Tungsten-5 Iron Alloy for Surgical Implant Applications (UNS R30563) | Update “Process(es) Impacted” to include Design Controls. | 9
10 | ASTM 603-00, Standard Specification for High-Purity Dense Aluminum Oxide for Surgical Implant Application | Update “Process(es) Impacted” to include Design Controls. | 10
11 | ASTM 620-00, Standard Specification for Titanium-6 Aluminum-4 Vanadium ELI Alloy Forgings for Surgical Implants (UNS R56401) | Update “Process(es ) Impacted” to include Design Controls. | 11
13 | ASTM F648-00, Standard Specification for Ultra-High-Molecular-Weight Polyethylene Powder and Fabricated Form for Surgical Implants | Update “Process(es) Impacted” to include Design Controls. | 13
14 | ASTM 688-00, Standard Specification for Wrought Cobalt-35 Nickel-20 Chromium-10 Molybdenum Alloy Plate, Sheet, and Foil for Surgical Implants | Update “Process(es) Impacted” to include Design Controls. | 14
15 | ASTM F745-00, Standard Specification for 18 Chromium-12.5 Molybdenum Stainless Steel for Cast and Solution-Annealed Surgical Implant Applications | Update “Process(es) Impacted” to include Design Controls. | 15
16 | ASTM F746-87 (1999), Standard Test Method for Pitting or Crevice Corrosion of Metallic Surgical Implant Materials | Update “Process(es) Impacted” to include Design Controls. | 16
19 | ASTM F961-96, Standard Specification for Cobalt-35 Nickel-20 Chromium-10 Molybdenum Alloy Forgings for Surgical Implants (UNS R30035) | Update “Process(es) Impacted” to include Design Controls. | 19
21 | ASTM F1088-87(1992)e1, Standard Specification for Beta-Tricalcium Phosphate for Surgical Implantation | Update “Process(es) Impacted” to include Design Controls. | 21
25 | ASTM F1295-01, Standard Specification for Wrought Titanium-6 Aluminum-7 Niobium Alloy for Surgical Implant Applications | Update “Process(es) Impacted” to include Design Controls. | 25
26 | ASTM F1314-01, Standard Specification for Wrought Nitrogen Strengthened-22 Chromium-12.5 Nickel-5 Manganese-2.5 Molybdenum Stainless Steel Bar and Wire for Surgical Implants | Update “Process(es) Impacted” to include Design Controls. | 26
27 | ASTM F1341-99, Standard Specification for Unalloyed Titanium Wire for Surgical Implant Applications | Update “Process(es) Impacted” to include Design Controls. | 27
30 | ASTM F1537-00, Standard Specification for Wrought Cobalt-28-Chromium-6-Molybdenum Alloy for Surgical Implants | Update “Process(es) Impacted” to include Design Controls. | 30
32 | ASTM F1586-02, Standard Specification for Wrought Nitrogen Strengthened-21 Chromium-10 Nickel-3 Manganese-2.5 Molybdenum Stainless Steel Bar for Surgical Implants | Update “Process(es) Impacted” to include Design Controls. | 32
33 | ASTM F1609-95, Standard Specification for Calcium Phosphate Coatings for Implantable Materials | Update “Process(es) Impacted” to include Design Controls. | 33
34 | ASTM F1659-95, Standard Test Method for Bending and Shear Testing of Calcium Phosphate Coatings on Solid Metallic Substrates | Update “Process(es) Impacted” to include Design Controls. | 34
35 | ASTM F1713-96, Standard Specification for Wrought Titanium-13 Niobium-13 Zirconium Alloy for Surgical Implant Applications | Clarification of Extent of Recognition; Update “Process(es) Impacted” to include Design Controls. | 35
36 | ASTM F1801-97, Standard Practice for Corrosion Fatigue Testing of Metallic Implant Materials | Update “Process(es) Impacted” to include Design Controls. | 36
37 | ASTM F1813-01, Standard Specification for Wrought Titanium—12 Molybdenum-6 Zirconium-2 Iron Alloy for Surgical Implant (UNS R58120) | Clarification of Extent of Recognition; Update “Process(es) Impacted” to include Design Controls. | 37
38 | ASTM F2005-00, Standard Terminology for Nickel-Titanium Shape Memory Alloys | Update “Process(es) Impacted” to include Design Controls. | 38
39 | ASTM F2052-00, Standard Test Method for Measurement of Magnetically Induced Displacement Force on Passive Implants in the Magnetic Resonance Environment | Update “Process(es) Impacted” to include Design Controls. | 39
40 | ASTM F2063-00, Standard Specification for Wrought Nickel-Titanium Shape Memory Alloys for Medical Devices and Surgical Implants | Cardiovascular contact person. Clarification to Extent of Recognition with regard to biocompatibility requirements. | 40
41 | ASTM F2066-01, Standard Specification for Wrought Titanium-15 Molybdenum Alloy for Surgical Implant Applications (UNS R58150) | Cardiovascular contact person; Clarification to Extent of Recognition | 41
43 | ASTM F2146-01, Standard Specification for Wrought Titanium-3Aluminum-2.5Vanadium Alloy Seamless Tubing for Surgical Implant Applications (UNS R56320) | Cardiovascular contact person; Clarification to Extent of Recognition | 43
44 | ASTM F136-02, Standard Specification for Wrought Titanium-6 Aluminum-4 Vanadium ELI (Extra Low Interstitial) Alloy for Surgical Implant Applications (UNS R56401) | Update “Process(es) Impacted” to include Design Controls. | 44
45 | ASTM F562-02, Standard Specification for Wrought 35Cobalt-35Nickel-20Chromium-10Molybdenum Alloy for Surgical Implant Applications (UNS R30035) | Update “Process(es) Impacted” to include Design Controls. | 45
46 | ASTM F621-02, Standard Specification for Stainless Steel Forgings for Surgical Implants | Update “Process(es) Impacted” to include Design Controls | 46
47 | ASTM F799-02, Standard Specification for Cobalt-28 Chromium-6 Molybdenum Alloy Forgings for Surgical Implants (UNS R31537, R31538, R31539) | Update “Process(es) Impacted” to include Design Controls. | 47
48 | ASTM F899-02, Standard Specification for Stainless Steel for Surgical Instruments | Update “Process(es) Impacted” to include Design Controls. | 48
49 | ASTM F1058-02, Standard Specification for Wrought 40Cobalt-20Chromium-16Iron-15Nickel-7Molybdenum Alloy Wire and Strip for Surgical Implant Applications (UNS R30003 and UNS R30008) | Update “Process(es) Impacted” to include Design Controls. | 49
50 | ASTM F1091-02, Standard Specification for Wrought Cobalt-20 Chromium-15 Tungsten-10 Nickel Alloy Surgical Fixation Wire (UNS R30605) | Update “Process(es) Impacted” to include Design Controls. | 50
51 | ASTM 1108-02, Standard Specification for Titanium -6Aluminum -4Vanadium Alloy Castings for Surgical Implants (UNS R56406) | Update “Process(es) Impacted” to include Design Controls. | 51
52 | ASTM F1350-02, Standard Specification for Wrought 18 Chromium-14 Nickel-2.5 Molybdenum Stainless Steel Surgical Fixation Wire (UNS S31673) | Update “Process(es) Impacted” to include Design Controls. | 52
53 | ASTM F1472-02, Standard Specification for Wrought Titanium -6Aluminum -4Vanadium Alloy for Surgical Implant Applications (UNS R56400) | Update “Process(es) Impacted” to include Design Controls. | 53
54 | ASTM F1580-01, Standard Specification for Titanium and Titanium-6 Aluminum-4 Vanadium Alloy Powders for Coatings of Surgical Implants | Update “Process(es) Impacted” to include Design Controls. | 54
55 | ASTM F2182-02, Standard Test Method for Measurement of Radio Frequency Induced Heating Near Passive Implants During Magnetic Resonance Imaging | Update “Process(es) Impacted” to include Design Controls. | 55
Dental 30 Ortho 62 | ISO 5832-1:1997, Implants for Surgery—Metallic Materials—Part 1: Wrought stainless steel | Transferred from dental/ENT and orthopaedics. | 56
Dental 31 Ortho 117 | ISO 5832-2:1999, Implants for Surgery—Metallic Materials—Part 2: Unalloyed Titanium | Transferred from dental/ENT and orthopaedics. | 57
Dental 32 Ortho 64 | ISO 5832-3:1996, Implants for Surgery—Metallic Materials—Part 3: Wrought titanium 6-aluminium 4-vanadium alloy | Transferred from dental/ENT and orthopaedics. | 58
Dental 33 Ortho 65 | ISO 5382-4:1996, Implants for Surgery—Metallic Materials—Part 4: Cobalt-chromium-molybdenum casting alloy | Transferred from dental/ENT and orthopaedics. | 59
Dental 34 Ortho 66 | ISO 5832-5:1993, Implants for Surgery—Metallic Materials—Part 5: Wrought cobalt-chromium-tungsten-nickel alloy | Transferred from dental/ENT and orthopaedics. | 60
Dental 35 Ortho 67 | ISO 5832-6:1997, Implants for Surgery—Metallic Materials—Part 6: Wrought cobalt-nickel-chromium-molybdenum alloy | Transferred from dental/ENT and orthopaedics. | 61
Dental 36 Ortho 118 | ISO 5832-9: 1992, Implants for Surgery—Metallic Materials—Part 9: Wrought high nitrogen stainless steel | Transferred from dental/ENT and orthopaedics. | 62
Dental 38 Ortho 70 | ISO 5832-11: 1994, Implants for Surgery—Metallic Materials—Part 11: Wrought titanium 6-aluminium 7-niobium alloy | Transferred from dental/ENT and orthopaedics. | 63
Dental 39 Ortho 71 | ISO 5832-12: 1996, Implants for Surgery—Metallic Materials—Part 12: Wrought cobalt-chromium-molybdenum alloy | Transferred from dental/ENT and orthopaedics. | 64
Ortho 119 | ISO 5834-2: 1998, Implants for Surgery—Ultra-High-Molecular-Weight Polyethylene—Part 2: Moulded Forms | Transferred from orthopaedics. | 65
Ortho 76 | ISO 6474:1994, Implants for Surgery—Ceramic materials based on high purity alumina | Transferred from orthopaedics. | 66
Ortho 143 | ISO 7153-1:1991/Amd 1:1999, Surgical Instruments—Metallic Materials—Part 1: Stainless steel | Transferred from orthopaedics. | 67
Ortho 84 | ISO 13782: 1996, Implants for Surgery—Metallic Materials—Unalloyed tantalum for surgical implant applications | Transferred from orthopaedics. | 68
Dental 37 | ISO 5832-10:1996, Implants for Surgery—Metallic Materials—Part 10: Wrought titanium 5-aluminium 2,5-iron | Transferred from dental/ENT. | 69

F. Ophthalmic

Old Item No. | Standard | Change | Replacement Item No.
30 | ANSI Z80.7-2002: Ophthalmics—Intraocular Lenses | Correction in publication date | 30

G. Orthopaedics

Old Item No. | Standard | Change | Replacement Item No.
58 | ASTM F1781-97, Standard Specification for Elastomeric Flexible Hinge Finger Total Joint Implants | Added “Design Controls” to Process(es) Impacted | 58
62 | ISO 5832-1:1997, Implants for Surgery—Metallic materials—Part 1: Wrought stainless steel | Withdrawn and transferred to Materials | 62
64 | ISO 5832-3:1996, Implants for Surgery—Metallic materials—Part 3: Wrought titanium 6-aluminum 4-vanadium alloy | Withdrawn and transferred to Materials | 64
65 | ISO 5832-4:1996, Implants for Surgery—Metallic materials—Part 4: Cobalt-chromium-molybdenum casting alloy | Withdrawn and transferred to Materials | 65
66 | ISO 5832-5:1993, Implants for Surgery—Metallic materials—Part 5: Wrought cobalt-chromium-tungsten-nickel alloy | Withdrawn and transferred to Materials | 66
67 | ISO 5832-6:1997, Implants for Surgery—Metallic materials—Part 6: Wrought cobalt-nickel-chromium-molybdenum alloy | Withdrawn and transferred to Materials | 67
70 | ISO 5832-11:1994, Implants for Surgery—Metallic materials—Part 11: Wrought titanium 6-aluminum 7-niobium alloy | Withdrawn and transferred to Materials | 70
71 | ISO 5832-12:1996, Implants for Surgery—Metallic materials—Part 12: Wrought cobalt-chromium-molybdenum alloy | Withdrawn and transferred to Materials | 71
73 | ISO 5838-1:1995, Implants for Surgery—Skeletal Pins and Wires—Part 1: Material and Mechanical Requirements | Added “Design Controls” to Process(es) Impacted | 73
74 | ISO 5838-2:1991, Implants for Surgery—Skeletal Pins and Wires—Part 2: Steinmann Skeletal Pins—Dimensions | Added “Design Controls” to Process(es) Impacted | 74
75 | ISO 5838-3:1993, Implants for Surgery—Skeletal Pins and Wires—Part 3: Kirschner Skeletal Wires | Added “Design Controls” to Process(es) Impacted | 75
76 | ISO 6474-94, Implants for surgery—Ceramic materials based on high purity alumina | Withdrawn and transferred to Materials |
78 | ISO 7206-4:2002, Implants for Surgery—Partial and Total Hip Joint Prostheses—Part 4: Determination of Endurance Properties of Stemmed Femoral Components | Withdrawn and replaced with newer version; Title change; Added “Design Controls” to Process(es) Impacted | 165
79 | ISO 7206-8:1995, Implants for Surgery—Partial and Total Hip Joint Prostheses—Part 8: Endurance Performance of Stemmed Femoral Components with Application of Torsion | Added “Design Controls” to Process(es) Impacted | 79
83 | ISO 13402-95, Surgical and Dental Hand Instruments—Determination of Resistance Against Autoclaving, Corrosion and Thermal Exposure | Added “Design Controls” to Process(es) Impacted | 83
84 | ISO 13782:1996, Implants for Surgery—Metallic materials—Unalloyed tantalum for surgical implant applications | Withdrawn and transferred to Materials |
85 | ISO 14630:1997, Non-Active Surgical Implants—General Requirements | Added “Design Controls” to Process(es) Impacted | 85
101 | ASTM F897-02, Standard Test Method for Measuring Fretting Corrosion of Osteosynthesis Plates and Screws | Withdrawn and replaced with newer version; Added “Design Controls” to Process(es) Impacted | 166
104 | ASTM F1089-02, Standard Test Method for Corrosion of Surgical Instruments | Withdrawn and replaced with newer version; Added “Design Controls” to Process(es) Impacted | 167
107 | ASTM F1147-99, Standard Test Method for Tension Testing of Calcium Phosphate and Metallic Coatings | Added “Design Controls” to Process(es) Impacted | 107
111 | ASTM F1814-97a, Standard Guide for Evaluating Modular Hip and Knee Joint Components | Added “Design Controls” to Process(es) Impacted | 111
113 | ASTM F1377-98a, Standard Specification for Cobalt-28 Chromium-6 Molybdenum Powder for Coating of Orthopedic Implants (UNS R30075) | Added “Design Controls” to Process(es) Impacted | 113
114 | ASTM F1798-97, Standard Guide for Evaluating the Static and Fatigue Properties of Interconnection Mechanisms and Subassemblies Used in Spinal Arthrodesis Implants | Added “Design Controls” to Process(es) Impacted | 114
115 | ASTM F1800-97, Standard Test Method for Cyclic Fatigue Testing of Metal Tibial Tray Components of Total Knee Joint Replacements | Added “Design Controls” to Process(es) Impacted | 115
117 | ISO 5832-2:1999, Implants for Surgery—Metallic Materials—Part 2: Unalloyed Titanium | Withdrawn and transferred to Materials |
118 | ISO 5832-9:1992, Implants for Surgery—Metallic Materials—Part 9: Wrought High Nitrogen Stainless Steel | Withdrawn and transferred to Materials |
119 | ISO 5834-2:1998, Implants for Surgery—Ultra-High-Molecular Weight Polyethylene—Part 2: Moulded Forms | Withdrawn and transferred to Materials |
120 | ASTM F382-99, Standard Specification and Test Method for Metallic Bone Plates | Added “Design Controls” to Process(es) Impacted | 120
121 | ISO 7207-1:1994, Implants for Surgery—Components for partial and total knee joint prostheses—Part 1: Classification, definitions and designation of dimensions | Added “Design Controls” to Process(es) Impacted | 121
126 | ASTM F366-82(2000), Standard Specification for Fixation Pins and Wires | Added “Design Controls” to Process(es) Impacted | 126
131 | ASTM F1044-99, Standard Test Method for Shear Testing of Calcium Phosphate Coatings and Metallic Coatings | Added “Design Controls” to Process(es) Impacted | 131
140 | ASTM F1582-98, Standard Terminology Relating to Spinal Implants | Added “Design Controls” to Process(es) Impacted | 140
141 | ASTM F1612-95(2000), Standard Practice for Cyclic Fatigue Testing of Metallic Stemmed Hip Arthroplasty Femoral Components With Torsion | Added “Design Controls” to Process(es) Impacted | 141
142 | ASTM F1672-95(2000), Standard Specification for Resurfacing Patellar Prosthesis | Added “Design Controls” to Process(es) Impacted | 142
143 | ISO 7153-1:1991/Amd. 1:1999, Surgical Instruments—Metallic Materials—Part 1: Stainless steel | Withdrawn and transferred to Materials | 143
152 | ASTM F1160-00e1, Standard Test Method for Shear and Bending Fatigue Testing of Calcium Phosphate and Metallic Medical and Composite Calcium Phosphate/Metallic Coatings | Added “Design Controls” to Process(es) Impacted | 152
155 | ISO 7207-2:1998, Implants for Surgery—Components for partial and total knee joint prostheses—Part 2: Articulating surfaces made of metal, ceramic and plastics materials | Added “Design Controls” to Process(es) Impacted | 155
159 | ASTM F1717-01, Standard Test Methods for Spinal Implant Constructs in a Vertebrectomy Model | Added “Design Controls” to Process(es) Impacted | 159
161 | ASTM F1264-01, Standard Specification and Test Methods for Intramedullary Fixation Devices | Added “Design Controls” to Process(es) Impacted | 161
162 | ASTM F564-02, Standard Specification and Test Methods for Metallic Bone Staples | Added “Design Controls” to Process(es) Impacted | 162
163 | ASTM F543-02 Standard Specification and Test Methods for Metallic Medical Bone Screws | Added “Design Controls” to Process(es) Impacted | 163
164 | ASTM F1541-02, Standard Specification and Test Methods for External Skeletal Fixation Devices | Added “Design Controls” to Process(es) Impacted | 164

H. Radiology

Old Item No. | Standard | Change | Replacement Item No.
38 | IEC 60601-2-15, Medical Electrical Equipment—Part 2: Particular Requirements for the Safety of Capacitor Discharge X-ray Generators (1988) | Withdrawn |
43 | IEC 60601-2-33: Medical Electrical Equipment—Part 2, Particular Requirements for the Safety of Magnetic Resonance Equipment for Medical Diagnosis (2002-2005) | Withdrawn and replaced with newer version | 86
60 | IEC 61217 (2002-03), Radiotherapy Equipment—Coordinates, movements, and scales | Withdrawn and replaced with newer version | 87
64 | IEC 60601-2-45, Ed. 2.0, (2001-05): Medical Electrical Equipment—Part 2-45: Particular Requirements for the Safety of Mammographic X-ray Equipment and Mammographic Stereotactic Devices | Correction date inserted | 64
78 | NEMA PS 3.1 through PS 3.16 2000, Digital Imaging and Communications in Medicine (DICOM) | Correction Parts inserted in title | 78

I. Sterility

Old Item No. | Standard | Change | Replacement Item No.
1 | AOAC 6.2.01:2000, Official Method 955.14, Testing Disinfectants Against Salmonella choleraesuis, Use-Dilution Method | Withdrawn and replaced with newer version | 94
2 | AOAC 6.2.02:2000, Official Method 991.47, Testing Disinfectants Against Salmonella choleraesuis, Hard Surface Carrier Test Method | Withdrawn and replaced with newer version | 95
3 | AOAC 6.2.03:2000, Official Method 99l.48, Testing Disinfectants Against Staphylococcus aureus, Hard Surface Carrier Test Method | Withdrawn and replaced with newer version. | 96
4 | AOAC 6.2.04:2000, Official Method 955.15, Testing Disinfectants Against Staphylococcus aureus, Use-Dilution Method | Withdrawn and replaced with newer version | 97
5 | AOAC 6.2.05:2000, Official Method 99l.49, Testing Disinfectants Against Pseudomonas aeruginosa, Hard Surface Carrier Test Method | Withdrawn and replaced with newer version | 98
6 | AOAC 6.2.06:2000, Official Method 964.02, Testing Disinfectants Against Pseudomonas aeruginosa, Use-Dilution Method | Withdrawn and replaced with newer version | 99
7 | AOAC 6.3.02, Official Method 955.17, Fungicidal Activity of Disinfectants Using Trichophyton mentagrophytes | Withdrawn and replaced with newer version | 100
8 | AOAC 6.3.05:2000, Official Method 966.04, Sporicidal Activity of Disinfectants | Withdrawn and replaced with newer version | 101
9 | AOAC 6.3.06:2000, Official Method 965.12, Tuberculocidal Activity of Disinfectants | Withdrawn and replaced with newer version | 102
24 | ANSI/AAMI/ISO 11134:1993, Sterilization of Health Care Products—Requirements for Validation and Routine Control-Industrial Moist Heat Sterilization | Contact person | 24
25 | ANSI/AAMI/ISO 11135-1994, Medical Devices—Validation and Routine Control of Ethylene Oxide Sterilization | Contact person | 25
27 | AAMI/ANSI/ISO 11607:2000, Packaging for Terminally Sterilized Medical Devices | Withdrawn and replaced with newer version; Add to Extent of Recognition | 103
51 | ANSI/AAMI ST58:1996, Safe Use and Handling of Glutaraldehyde-Based Products in Health Care Facilities and ANSI/AAMI ST58:1996/Amendment 1 2002 | Withdrawn and replaced with newer version | 104
52 | ANSI/AAMI ST59:1999, Sterilization of Health Care Products—Biological Indicators Part 1: General Requirements | Updated Relevant Guidance | 52
73 | ANSI/AAMI ST46:2002, Steam Sterilization and Sterility Assurance in Health Care Facilities | Withdrawn and replaced with newer version | 105
75 | ANSI/AAMI/ISO 11137:1994, Sterilization of Health Care Products-Requirements for Validation and Routine Control-Radiation Sterilization and ISO11137:1995 (Amendment 1:2002) | Title Correction; Additional Relevant Guidance; Contact person | 75
76 | AAMI/ANSI/ISO 10993-7:1995 (R) 2001, Biological Evaluation of Medical Devices—Part 7: Ethylene Oxide Sterilization Residuals | Delete (e.g. hemodialyzers) from the Extent of Recognition | 76
78 | USP 26:2003, Biological Indicator for Dry Heat Sterilization, Paper Carrier | Withdrawn and replaced with newer version | 106
79 | USP 26:2003, Biological Indicator for Ethylene Oxide Sterilization, Paper Carrier | Withdrawn and replaced with newer version | 107
80 | USP 26:2003, Biological Indicator for Steam Sterilization, Paper Carrier | Withdrawn and replaced with newer version | 108
81 | USP 26:2003, <61> Microbial Limits Test | Withdrawn and replaced with newer version | 109
82 | USP 26:2003, <71>, Microbiological Tests, Sterility Tests | Withdrawn and replaced with newer version | 110
83 | USP 26:2003, <85> Biological Tests and Assays, Bacterial Endotoxin Test (LA) | Withdrawn and replaced with newer version | 111
84 | USP 26:2003, <151> Pyrogen Test (USP Rabbit Test) | Withdrawn and replaced with newer version | 112
85 | USP 26:2003 <1211> Sterilization and Sterility Assurance of Compendial Articles | Withdrawn and replaced with newer version | 113
87 | USP 26:2003, Transfusion and Infusion Assemblies and Similar Medical Devices <161> | Withdrawn and replaced with newer version | 114
93 | USP 26:2003, Biological Indicator for Steam Sterilization | Withdrawn and replaced with newer version | 115

III. Listing of New Entries

The listing of new entries and consensus standards added as “Modifications to the List of Recognized Standards”, under Recognition List Number: 009,” is as follows:

A. Anesthesia

Item No. | Title of Standard | Reference No. and Date
45 | Standard Specification for Ventilators Intended for use During Anesthesia | F1101-90 (1996)
46 | Breathing Tubes Intended for use with Anesthetic Apparatus and Ventilators | ISO 5367:2000

B. Biocompatibility

Item No. | Title of Standard | Reference No. and Date
79 | Standard Practice for Extraction of Medical Plastics | ASTM F619-02
80 | Standard Practice for Characterization of Particles | ASTM F1877-98
81 | Standard Practice for Selecting Tests for Determining the Propensity of Materials to Cause Immunotoxicity | ASTM F1905-98
82 | Standard Practice for Evaluation of Immune Responses In Biocompatibility Testing Using ELISA Tests, Lymphocyte, Proliferation, and Cell Migration | ASTM F2147-01

C. Cardiovascular/Neurology

Item No. | Title of Standard | Reference No. and Date
50 | Cardiac Defibrillator Devices | ANSI/AAMI DF2-1996 (Revision of ANSI/AAMI DF2-1989)
51 | Automatic External Defibrillators and Remote-Control Defibrillators | ANSI/AAMI DF39-1993

D. Dental/ENT

Item No. | Title of Standard | Reference No. and Date
103 | Denture Base Polymers | ANSI/ADA Specification No. 12:1999
104 | Pit and Fissure Sealants | ANSI/ADA Specification No. 39: 1999
105 | Resilient Lining Materials for Removable Dentures, Part 2: Short-Term Materials | ANSI/ADA Specification No. 75: 1997
106 | Dental Reversible/Irreversible Hydrocolloid Impression Material System | ANSI/ADA Specification No. 82: 1998
107 | Dental, Water-Based Cements | ISO 9917-2:1998
108 | Dentistry, Resilient Lining Materials for Removable Dentures—Part 1: Short-Term Materials | ISO 10139-1:1991
109 | Dentistry, Reversible-Irreversible Hydrocolloid Impression Material Systems | ISO 13716: 1999

E. In Vitro Diagnostic

Item No. | Title of Standard | Reference No. and Date
88 | Preparation and Validation of Commutable Frozen Human Serum Pools as Secondary Reference Materials for Cholesterol Measurement Procedures: Approved Guideline | NCCLS C37-A:1999
89 | A Designated Comparison Method for the Measurement of Ionized Calcium in Serum; Approved Standard | NCCLS C39-A:2000
90 | Clinical Application of Flow Cytometry: Immunophenotyping of Leukemic Cells; Approved Guideline | NCCLS H43-A:1998
91 | Interference Testing in Clinical Chemistry; Approved Guideline | NCCLS EP7-A:2002
94 | User Protocol for Evaluation of Qualitative Test Performance; Approved Guideline | NCCLS EP12-A:2002
95 | User Demonstration of Performance for Precision and Accuracy; Approved Guideline | NCCLS EP15-A:2001
96 | Quality Management for Unit-Use Testing; Approved Guideline | NCCLS EP18-A:2002
97 | Urinalysis and Collection, Transportation, and Preservation of Urine Specimens—Second Edition; Approved Guideline | NCCLS GP16-A2:2001

F. OB-GYN/Gastroenterology

Item No. | Title of Standard | Reference No. and Date
28 | Hemodialyzers | ANSI/AAMI RD 16:1996/A1:2002 Amendment 1 to ANSI/AAMI RD 16:1996
29 | Hemodialyzer Blood Tubing | ANSI/AAMI RD 17:1994/A1:2002 Amendment 1 to ANSI/AAMI RD 17:1994

G. Ophthalmic

Item No. | Title of Standard | Reference No. and Date
31 | Optics and Optical Instruments—Lasers and Laser-related Equipment—Test Method for the Laser-resistance of Surgical Drapes and/or Patient-protective Covers | ISO 11810:2002
32 | Optics and Optical Instruments—Lasers and Laser-related Equipment—Determination of Laser Resistance of Tracheal Tube Shafts | ISO 11990:2003

H. Radiology

Item No. | Title of Standard | Reference No. and Date
88 | Medical Electrical Equipment—Part 2: Particular Requirements for the Safety of Remote-Controlled Automatically-Driven Gamma-Ray Afterloading Equipment (1989) | IEC 60601-2-17 (1989)
89 | Optics and optical instruments—Lasers and Laser-Related Equipment—Test Method for the Laser-Resistance of Surgical Drapes and/or Patient-Protective Covers | ISO 11810:2002
90 | Medical Electrical Equipment—Part 2: Particular Requirements for Medical Electron Accelerators | IEC 60601-2-1 Amendment 1—Ed. 2.0 (2002-05)
91 | Medical Electrical Equipment—Part 2: Particular Requirements for the Safety of Therapeutic X-ray Equipment Operating in the Range 10 kV to 1 MV | IEC 60601-2-8 Amendment 1 (1997-98)
92 | Medical Electrical Equipment—Dosimeters with Ionization Chambers and/or Semi-Conductor Detectors as used in X-ray Diagnostic Imaging | IEC 61674 (1997-10)
93 | Medical Electrical Equipment—Dosimeters with Ionization Chambers and/or Semi-Conductor Detectors as used in X-ray Diagnostic Imaging | IEC 61674 Amendment 1 (2002-06)
94 | Medical Electrical Equipment—Dosimeters with Ionization Chambers as used in Radiotherapy | IEC 60731 Amendment 1 (2002-06)

I. Sterility

Item No. | Title of Standard | Reference No. and Date
116 | Bacterial Endotoxins—Test Methodologies, Routine Monitoring, and Alternatives to Batch Testing | ANSI/AAMI ST72:2002

J. Tissue Engineering

Item No. | Title of Standard | Reference No. and Date
3 | Standard Guide for Characterization of Type 1 Collagen as a Starting Material for Surgical Implants and Substrates for Tissue Engineered Medical Products | ASTM F2212-2002

IV. List of Recognized Standards

FDA maintains the agency's current list of “FDA Recognized Consensus Standards” in a searchable database that may be accessed directly at FDA's Internet site at http://www.accessdata.fda.gov/scripts/cdrh/cfdocs/cfStandards/search.cfm. FDA will incorporate the modifications and minor revisions described in this notice into the database and, upon publication in the Federal Register, this recognition of consensus standards will be effective. FDA will announce additional modifications and minor revisions to the list of recognized consensus standards, as needed, in the Federal Register once a year, or more often, if necessary.

V. Recommendation of Standards for Recognition by FDA

Any person may recommend consensus standards as candidates for recognition under the new provision of section 514 of the act by submitting such recommendations, with reasons for the recommendation, to the contact person (See FOR FURTHER INFORMATION CONTACT). To be properly considered such recommendations should contain, at a minimum, the following information: (1) Title of the standard, (2) any reference number and date, (3) name and address of the national or international standards development organization, (4) a proposed list of devices for which a declaration of conformity to this standard should routinely apply, and (5) a brief identification of the testing or performance or other characteristics of the device(s) that would be addressed by a declaration of conformity.

VI. Electronic Access

In order to receive “Guidance on the Recognition and Use of Consensus Standards” via your fax machine, call the CDRH Facts-On-Demand system at 800-899-0381 or 301-827-0111 from a touch-tone telephone. Press 1 to enter the system. At the second voice prompt press 1 to order a document. Enter the document number 321 followed by the pound sign (#). Follow the remaining voice prompts to complete your request.

You may obtain a copy of “Guidance on the Recognition and Use of Consensus Standards” by using the Internet. CDRH maintains a site on the Internet for easy access to information including text, graphics, and files that you may download to a personal computer with access to the Internet. Updated on a regular basis, the CDRH home page includes the guidance as well as the current list of recognized standards and other standards related documents. After publication in the Federal Register, this notice announcing “Modification to the List of Recognized Standards, Recognition List Number: 009” will be available on the CDRH home page. You may access the CDRH home page at http://www.fda.gov/cdrh. You may access “Guidance on the Recognition and Use of Consensus Standards,” and the searchable database for “FDA Recognized Consensus Standards,” through hyperlink at http://www.fda.gov/cdrh/stdsprog.html. This Federal Register notice of modifications in FDA's recognition of consensus standards will be available, upon publication, at http://www.fda.gov/cdrh/fedregin.html.

VII. Submission of Comments and Effective Date

Interested persons may submit to the contact person (see FOR FURTHER INFORMATION CONTACT) written or electronic comments regarding this document. Two copies of any mailed comments are to be submitted, except that individuals may submit one paper copy. Comments are to be identified with the docket number found in brackets in the heading of this document. FDA will consider any comments received in determining whether to amend the current listing of “Modifications to the List of Recognized Standards, Recognition List Number: 009.” These modifications to the list or recognized standards are effective upon publication of this notice in the Federal Register.

Dated: February 13, 2004.
Beverly Chernaik Rothstein,
Acting Deputy Director for Policy and Regulations, Center for Devices and Radiological Health.

[FR Doc. E4-479 Filed 3-5-04; 8:45 am]

BILLING CODE 4160-01-S